DEPARTMENT OF THE INTERIOR

National Park Service

[NPS-WASO-NRNHL-19122: PPWOCRADI0, PCU00RP14.R50000]

National Register of Historic Places; Notification of Pending Nominations and Related Actions

Nominations for the following properties being considered for listing or related actions in the National Register were received by the National Park Service before August 15, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by September 24, 2015. Before including your address, phone number, email address, or other personal identifying information in your comment, you should be aware that your entire comment—including your personal identifying information—may be made publicly available at any time. While you can ask us in your comment to withhold your personal identifying information from public review, we cannot guarantee that we will be able to do so.

Dated: August 20, 2015.
J. Paul Loether,
Chief, National Register of Historic Places/National Historic Landmarks Program.

ARKANSAS

Conway County

South Howard Street Historic District, 203, 205, 207, 209 & 211 S. Howard St., Morrilton, 15000630

Cross County

Ogan, Servetus W., House, 504 E. Forrest Ave., Wynne, 15000624

Hot Spring County

Lawyers' Row Historic District, 118, 120, 130, 132 W. 2nd St., Malvern, 15000625

Malvern Commercial Historic District, Bounded by W. 1st., S. Main, W. 5th & Locust Sts., Malvern, 15000626

Lawrence County

Lawrence County Courthouse, 315 W. Main St., Walnut Ridge, 15000627

Mississippi County

Blytheville Air Force Base Capehart Housing Historic District, Roughly bounded by Village Ave., Northside, Cypress Dr., Hemlock, Westminster, Apricot, Azalea & Pigeon Sts., Blytheville, 15000628

Monroe County

Highway 79 Bridge (Boundary Increase and Additional Documentation), US 79 over White R., Clarendon, 15000629

Pulaski County

Jacksonville Commercial Historic District, 1st from Mulberry to W. Hickory Sts., Jacksonville, 15000631

Matthews—Storey House, 8115 Ascension Rd., Little Rock, 15000632

Stowers, Dan, Office Building, 1516 W. 3rd St., Little Rock, 15000633

Strauss, Sam and Shirley, House, 4 Sunset Dr., Cammack Village, 15000634

CALIFORNIA

Riverside County

Carey House, (Architecture of Albert Frey MPS), 651 W. Via Escuela, Palm Springs, 15000635

Fire Station No. 1, (Architecture of Albert Frey MPS), 277 N. Indian Canyon Dr., Palm Springs, 15000636

Frey House II, (Architecture of Albert Frey MPS), 686 Palisades Dr., Palm Springs, 15000637

Kocher—Samson Building, (Architecture of Albert Frey MPS), 766 N. Palm Canyon Dr., Palm Springs, 15000638

Loewy House, (Architecture of Albert Frey MPS), 600 Panorama Rd., Palm Springs, 15000639

North Shore Yacht Club, (Architecture of Albert Frey MPS), 99-155 Sea View Dr., Mecca, 15000640

Palm Springs City Hall, (Architecture of Albert Frey MPS), 3200 E. Tahquitz Canyon Way, Palm Springs, 15000641

Palm Springs Tramway Valley Station, (Architecture of Albert Frey MPS), 1 Tram Way, Palm Springs, 15000642

Sieroty House, (Architecture of Albert Frey MPS), 695 E. Vereda Sur, Palm Springs, 15000643

Town and Country Center, 146, 156-166, 168, 174 N. Palm Canyon Dr., 167-181 N. Indian Canyon Dr., Palm Springs, 15000644

Tramway Gas Station, (Architecture of Albert Frey MPS), 2901 N. Palm Canyon Dr., Palm Springs, 15000645

San Bernardino County

Judson and Brown Ditch, Crosses San Bernardino FCD Rd., Redlands, 15000646

KENTUCKY

Calloway County

Swann, W.G., Tobacco Company, 111 Poplar St., Murray, 15000647

Christian County

Baldwin, C.A., Farmstead, 2680 Masonville—Beverly Rd., Hopkinsville, 15000648

Daviess County

Kentucky Buggy Company Building, 301 E. 9th St., Owensboro, 15000649

Fayette County

Peoples Federal Savings and Loan Association, 343 S. Broadway, Lexington, 15000650

Jefferson County

Goose, Roscoe, House, 3012 S. 3rd St., Louisville, 15000651

Jessamine County

First Vineyard, 5800 Sugar Creek Pike, Nicholasville, 15000656

Kenton County

Duveneck, Frank, House and Studio, 1226 Greenup St., Covington, 15000652

Magoffin County

Gardner Farmstead, Licking Station Rd., Salyersville, 15000653

McCreary County

Stearns Golf Course, 131 Clubhouse Dr., Stearns, 15000654

Ohio County

Ceralvo Masonic Hall and School, 942 Ceralvo Rd., Centertown, 15000655

Warren County

Causey, L.K., House, (Architecture of James Maurice Ingram MPS), 936 Covington St., Bowling Green, 15000657

Givens, J.C., House, (Architecture of James Maurice Ingram MPS), 814 Covington St., Bowling Green, 15000658

Moore, Charles M., Insurance Company, 1007 State St., Bowling Green, 15000659

MASSACHUSETTS

Hampden County

Adams Apartment Building, 71 Adams St., Springfield, 15000660

Evans Court Apartment Building, 22-24 Winthrop St., Springfield, 15000661

Hancock Apartment Building, 116-118 Hancock, 130 Tyler Sts., Springfield, 15000662

Ivernia Apartment Building, 91-93 Pine St., Springfield, 15000663

MISSISSIPPI

Harrison County

Broadmoor Place Historic District, Roughly bounded by Pine & Cypress Aves., 25th & 22nd Sts., Gulfport, 15000665

Soria City Historic District, Roughly bounded by 17th & Bullis Aves., 21st, 22nd & 20th Sts., Gulfport, 15000666

Warren County

South Drummond Street Neighborhood Historic District, Roughly bounded by Bowmar & Confederate Aves., Yerger, Green, 2nd, Oak Hill & Polk Sts., Halls Ferry Rd., Vicksburg, 15000667

NEW HAMPSHIRE

Carroll County

Bartlett Roundhouse, S. of US 302 between Pine St. & Albany Ave., Bartlett, 15000664

Grafton County

Bristol Town Hall, 45 Summer St., Bristol, 15000668

Owls Head, 289 W. Shore Rd., Hebron, 15000669

Strafford County

Rollinsford Grade School, 487 Locust St., Rollinsford, 15000670

Somoresworth High School, 17 Grand St., Somersworth, 15000671

NEW YORK

Broome County

Endicott-Johnson Medical Clinic, 305 Clinton St., Binghamton, 15000672

Lithuanian National Association Hall, 315 Clinton St., Binghamton, 15000673

Erie County

American Radiator Company Factory Complex, 1801-1809 Elmwood Ave., Buffalo, 15000674

OHIO

Lake County

Lawnfield—James A. Garfield Estate (Boundary Increase and Additional Documentation), 8095 Mentor Ave., Mentor, 15000675

SOUTH CAROLINA

Colleton County

St. James the Greater Catholic Mission, 3087 Ritter Rd., Walterboro, 15000676

UTAH

Salt Lake County

Erickson Artillo Dairy Farmhouse, (Murray City, Utah MPS), 5419 S. 900 E., Murray, 15000677

Western General Agency Building, 780 E. South Temple St., Salt Lake City, 15000678

VIRGINIA

Colonial Heights Independent city

Violet Bank Historic District, Lee, Lafayette, Hamilton, Cameron, Virginia, & Royal Oak Aves., Arlington Place, Colonial Heights (Independent City), 15000679

Petersburg Independent city

Petersburg Trailways Bus Station, 108 E. Washington St., Petersburg (Independent City), 15000680

A request to move has been received for the following resources:

ARKANSAS

Jackson County

Jackson Guards Memorial, (Civil War Commemorative Sculpture MPS), Jacksonport State Park, jct. of Washington and Avenue Sts., Jacksonport, 96000465

PENNSYLVANIA

Dauphin County

Star Barn Complex, Nissley Dr. at PA 283, Lower Swatara, 00000845

A request for removal has been received for the following resources:

ARKANSAS

Baxter County

North Fork Bridge, (Historic Bridges of Arkansas MPS), AR 5, over North Fork of the White R., Norfork, 90000512

Conway County

Morrilton Colored School, (Public Schools in the Ozarks MPS), 906 W. Rock St., Morrilton, 14000245

Garland County

Wheatley Courts, (Arkansas Highway History and Architecture MPS), 811 Park Ave., Hot Springs, 04000006

Nevada County

Wortham Gymnasium, AR 200, Oak Grove, 90000667

White County

Judsonia High School Gymnasium, (White County MPS), Roadman Ave., Judsonia, 91001232

MAINE

Penobscot County

Morse Bridge, Valley Ave., over Kenduskeag Stream, Bangor, 70000060

Sagadahoc County

SEQUIN (tugboat), Bath Marine Museum, Bath, 69000013

York County

Gerrish Warehouse, Pepperrell Cove off ME 103, Kittery, 77000140

[FR Doc. 2015-22619 Filed 9-8-15; 8:45 am]

BILLING CODE 4312-P